DEPARTMENT OF ENERGY

Federal Energy Regulatory Commission

[Docket No. IC03-567-001, FERC-567]

Commission Information Collection Activities, Proposed Collection; Comment Request; Submitted for OMB Review

July 29, 2003.

AGENCY: Federal Energy Regulatory Commission.

ACTION: Notice.

SUMMARY: In compliance with the requirements of Section 3507 of the Paperwork Reduction Act of 1995, 44 U.S.C. 3507, the Federal Energy Regulatory Commission (Commission) has submitted the information collection described below to the Office of Management and Budget (OMB) for review and extension of the current expiration date. Any interested person may file comments directly with OMB and should address a copy of those comments to the Commission as explained below. The Commission received no comments in response to an earlier Federal Register notice of May 16, 2003 (68 FR 26589-90) and has made this notation in its submission to OMB.

DATES: Comments on the collection of information are due by August 26, 2003.

ADDRESSES: Address comments on the collection of information to the Office of Management and Budget, Office of Information and Regulatory Affairs, Attention: Federal Energy Regulatory Commission Desk Officer. The Desk Officer may be reached by fax at 202-395-7285 or by e-mail at pamelabeverly.oirasubmission@omb.eop.gov. A copy of the comments should also be sent to the Federal Energy Regulatory Commission, Office of the Executive Director, ED-30, Attention: Michael Miller, 888 First Street NE., Washington, DC 20426. Comments may be filed either in paper format or electronically. Those persons filing electronically do not need to make a paper filing. For paper filings, such comments should be submitted to the Office of the Secretary, Federal Energy Regulatory Commission, 888 First Street, NE. Washington, DC 20426 and should refer to Docket No. IC03-567-001.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's E-mail address upon receipt of comments. User assistance for electronic filings is available at 202-502-8258 or by e-mail to efiling@ferc.gov. Comments should not be submitted to the e-mail address.

All comments may be viewed, printed or downloaded remotely via the Internet through FERC's homepage using the FERRIS link. User assistance for FERRIS and the FERC's Web site during business hours by contacting, FERC Online Support at FERCOnlineSupport@ferc.gov or toll free at (866) 208-3676, for TTY (202)502-8659 or the Public Reference at (202)-8371 or by e-mail to public.reference.room@ferc.gov.

FOR FURTHER INFORMATION CONTACT: Michael Miller may be reached by telephone at (202)502-8415, by fax at (202)273-0873, and by e-mail at michael.miller@ferc.gov.

SUPPLEMENTARY INFORMATION:

Description

The information collection submitted for OMB review contains the following:

1. Collection of Information: FERC-567 “Gas Pipeline Certificates: Annual Reports of System Flow Diagrams and System Capacity.”

2. Sponsor: Federal Energy Regulatory Commission.

3. Control No.: 1902-0005.

The Commission is now requesting that OMB approve a three-year extension of the expiration date, with no changes to the existing collection. The information filed with the Commission is mandatory.

4. Necessity of the Collection of Information: Submission of the information is necessary to enable the Commission to carry out its responsibilities in implementing the statutory provisions of Sections 4, 5, 6, 7, 9, 10(a) and 16 of the Natural Gas Act (NGA)(Pub. L. 75-688), and Title III, Sections 301(a)(1), 303(a), 304(d), Title IV, Sections 401 and 402, Title V, Section 508 of the Natural Gas Policy Act (Pub. L. 95-621). The information collected under the requirements of FERC-567 is used by the Commission to obtain accurate data on pipeline facilities. Specifically, the FERC-567 data is used in determining the configuration and location of installed pipeline interconnections and receipt and delivery points; and developing and evaluating alternatives to proposed facilities as a means to mitigate the environmental impact of new pipeline construction.

FERC-567 also contains valuable information that can be used to assist federal officials in maintaining adequate natural gas service in times of national emergency. The Commission implements these filing requirements in the Code of Federal Regulations (CFR) under 18 CFR part 260.8 and 284.13.

5. Respondent Description: The respondent universe currently comprises approximately 91 natural gas pipeline companies.

6. Estimated Burden: 12,724 total hours, 91 respondents (average), 1,714 response per respondent (derived by dividing the total number of responses expected annually (156) by the number of respondents (91) and rounding to three places), 81.58 hours per response (average).

7. Estimated Cost Burden to respondents: 12,724 hours/2080 hours per years × $117,041 per year = $715,976. The cost per respondent is equal to $7,868.

Statutory Authority: Sections 4, 5, 6, 7, 9, 10(a) and 16 of the Natural Gas Act (15 U.S.C. 717-717w) and Title III Sections 301(a), 303(a), 304(d), Title IV, Sections 401, 402, Title V, Section 508 of the Natural Gas Policy Act (Pub. L. 95-621).

Magalie R. Salas,
Secretary.

[FR Doc. 03-19832 Filed 8-4-03; 8:45 am]

BILLING CODE 6717-01-P